DEPARTMENT OF JUSTICE

Notice of Lodging of Consent Decree Under the Clean Air Act

Notice is hereby given that on August 20, 2009, a proposed Consent Decree in United States v. First Chemical Corporation, Civil Action No. 1:09-cv-00637-LG-RHW was lodged with the United States District Court for the Southern District of Mississippi, Southern Division.

In this action, the United States sought civil penalties and injunctive relief against First Chemical Corporation (“FCC”) for alleged violations of the general duty of care under Section 112(r)(1) of the Clean Air Act, 42 U.S.C. 7412(r)(1) with respect to a chemical manufacturing complex, located in Pascagoula, Mississippi. FCC failed to identify the hazards associated with distilling mononitrotoluene (“MNT”), and failed to maintain a safe facility by reducing the risks associated with MNT.

The United States has agreed to resolve these claims under the proposed Consent Decree wherein FCC has agreed to pay $731,000 in civil penalties, and perform injunctive relief in terms of completing a process hazards analysis relative to the MNT distillation process.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. First Chemical Corporation, D.J. Ref. 90-5-2-1-08312.

The Consent Decree may be examined at the Office of the United States Attorney, 1575 20th Ave., 2d Floor, Gulfport, MS 39501, ATTN: Crockett Lindsey, and at U.S. EPA Region 4, 61 Forsyth Street, SE., Atlanta, GA 30303, ATTN: Ellen Rouch. During the public comment period, the Consent Decree, may also be examined on the following Department of Justice Web site, to http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $10.75 (25 cents per page reproduction cost) payable to the U.S. Treasury or, if by e-mail or fax, forward a check in that amount to the Consent Decree Library at the stated address.

Maureen M. Katz,
Assistant Chief, Environmental Enforcement Section, Environment and Natural Resources Division.

[FR Doc. E9-20526 Filed 8-25-09; 8:45 am]

BILLING CODE 4410-15-P